DEPARTMENT OF THE INTERIOR

U.S. Geological Survey

Draft National Spatial Data Infrastructure Strategic Plan; Comment Request

AGENCY: U.S. Geological Survey, Interior.

ACTION: Request for public comment.

SUMMARY: The Federal Geographic Data Committee (FGDC) is soliciting public comments on the draft strategic plan for the National Spatial Data Infrastructure (NSDI). The draft strategic plan, along with instructions for submitting comments, is posted at: www.fgdc.gov/nsdi-plan. Comments should be submitted by August 21, 2013.

The FGDC is the interagency committee that promotes the coordinated use, sharing and dissemination of geospatial data in the United States. The FGDC operates under the authority of Office of Management and Budget (OMB) Circular A-16 and Executive Order 12906. One of the FGDC's responsibilities under Circular A-16 is to “prepare and maintain a strategic plan for the development and implementation of the NSDI.” Executive Order 12906 describes the NSDI as “the technology, policies, standards, and human resources necessary to acquire, process, store, distribute, and improve utilization of geospatial data.”

The draft NSDI strategic plan has been developed with inputs from a variety of sources, including FGDC member agencies, the National Geospatial Advisory Committee, and geospatial partner organizations. The plan describes a broad national vision for the NSDI, and includes goals and objectives for the Federal government's role in continued sustainable development of the NSDI. Following the public comment period, a revised draft of the plan will be prepared for final review and adoption by the FGDC Steering Committee. Following adoption of the strategic plan, the FGDC will develop more detailed project plans for the goals and objectives in the strategic plan.

DATES: Comments should be submitted by August 21, 2013.

ADDRESSES: You may provide comments by either of the following methods:

• Submit comments electronically to: nsdicomments@fgdc.gov.

• Submit comments by mail to: Federal Geographic Data Committee, 12201 Sunrise Valley Drive, Mail Stop 590, Reston, VA 20192.

Instructions for submitting comments are posted at: www.fgdc.gov/nsdi-plan.

FOR FURTHER INFORMATION CONTACT: John Mahoney, U.S. Geological Survey (206-220-4621).

SUPPLEMENTARY INFORMATION: Additional information about the FGDC is available at www.fgdc.gov. Additional information about the NSDI strategic plan is available at: www.fgdc.gov/nsdi-plan.

Dated: July 26, 2013.
David Newman,
Federal Register Liaison.

[FR Doc. 2013-18637 Filed 8-1-13; 8:45 am]

BILLING CODE 4311-AM-P